EQUAL EMPLOYMENT OPPORTUNITY COMMISSION

Notice of Meeting; Sunshine Act

Agency Holding the Meeting: Equal Employment Opportunity Commission.

Date and Time: Wednesday, April 19, 2006, 10 a.m. Eastern Time.

Place: Clarence M. Mitchell, Jr. Conference Room on the Ninth Floor of the EEOC Office Building, 1801 “L” Street, NW., Washington, DC 20507.

Status: The meeting will be open to the public.

Matters To Be Considered: Open Session:

1. Announcement of Notation Votes, and

2. Race and Color Discrimination: EEOC Compliance Manual Section, and Invited Panelists.

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings.

FOR FURTHER INFORMATION CONTACT: Stephen Llewellyn, Acting Executive Officer on (202) 663-4070.

Dated: April 10, 2006.
Stephen Llewellyn,
Acting Executive Officer, Executive Secretariat.

[FR Doc. 06-3548 Filed 4-10-06; 11:49 am]

BILLING CODE 6570-06-M